DEPARTMENT OF LABOR

Occupational Safety and Health Administration

[Docket No. OSHA-2020-0010]

Maritime Advisory Committee on Occupational Safety and Health (MACOSH): Charter Renewal

AGENCY: Occupational Safety and Health Administration (OSHA), Labor.

ACTION: Renewal of the MACOSH charter.

SUMMARY: The Secretary of Labor (Secretary) has renewed the charter for MACOSH.

FOR FURTHER INFORMATION CONTACT:

Press inquiries: Mr. Frank Meilinger, Director, OSHA Office of Communications, U.S. Department of Labor; telephone: (202) 693-1999; email: meilinger.francis2@dol.gov.

General information: Ms. Amy Wangdahl, Director, Office of Maritime and Agriculture, Directorate of Standards and Guidance; telephone; (202) 693-2066; email: wangdahl.amy@dol.gov.

SUPPLEMENTARY INFORMATION: The Secretary renewed the MACOSH charter on December 8, 2020. The charter will expire December 8, 2022.

MACOSH is established in Section 7(d) of the Occupational Safety and Health Act of 1970 (OSH Act) (29 U.S.C. 651, 656) to advise the Secretary of Labor through the Assistant Secretary of Labor for Occupational Safety and Health (Assistant Secretary) in order to inform the administration of the OSH Act with respect to the maritime industry. The Assistant Secretary may seek the advice of this Committee on activities related to priorities set by the Agency, including: Worker training, education, and assistance; setting and enforcing standards; and assuring safe and healthful working conditions in the maritime industry.

MACOSH is a non-discretionary advisory committee of indefinite duration, operating in accordance with the provisions of the Federal Advisory Committee Act (FACA), as amended (5 U.S.C. App. 2), the implementing regulations (41 CFR parts 101-6 and 102-3), chapter 1-900 of Department of Labor Manual Series 3 (Aug. 31, 2020), and OSHA's regulations on Advisory Committees (29 CFR part 1912). Pursuant to FACA (5 U.S.C. App. 2, 14(b)(2)), the MACOSH charter must be renewed every two years.

The new MACOSH charter is available to read or download at http://www.regulations.gov (Docket No. OSHA-2020-0010), the federal rulemaking portal. The charter also is available on the MACOSH page on OSHA's web page at http://www.osha.gov and at the OSHA Docket Office, N-3653, Occupational Safety and Health Administration, U.S. Department of Labor, 200 Constitution Avenue NW, Washington, DC 20210; telephone (202) 693-2350. Please note: While OSHA's Docket Office is continuing to accept and process requests, due to the COVID-19 pandemic, the Docket Office is closed to the public. In addition, the charter is available for viewing or download at the Federal Advisory Committee Database at http://www.facadatabase.gov.

Authority and Signature

Loren Sweatt, Principal Deputy Assistant Secretary of Labor for Occupational Safety and Health, authorized the preparation of this notice pursuant to 29 U.S.C. 653, 655, and 656, Secretary's Order 8-2020 (85 FR 58393; Sept. 18, 2020), and FACA, as amended (5 U.S.C. App. 2), the implementing regulations (41 CFR part 102-3), Department of Labor Manual Series Chapter 1-900 (August 31, 2020), and 29 CFR part 1912.

Signed at Washington, DC, on December 2, 2020.
Loren Sweatt,
Principal Deputy Assistant Secretary of Labor for Occupational Safety and Health.

[FR Doc. 2020-26878 Filed 12-7-20; 8:45 am]

BILLING CODE 4510-26-P